SECURITIES AND EXCHANGE COMMISSION

[File No. 500-1]

Order of Suspension of Trading; iTrackr Systems, Inc.

June 18, 2013.

It appears to the Securities and Exchange Commission that there is a lack of current and accurate information concerning the securities of iTrackr Systems, Inc. (“iTrackr”) because it has not filed a periodic report since it filed its Form 10-Q for the period ending September 30, 2012, filed on November 6, 2012.

The Commission is of the opinion that the public interest and the protection of investors require a suspension of trading in the securities of iTrackr. Therefore, it is ordered, pursuant to Section 12(k) of the Securities Exchange Act of 1934, that trading in the securities of iTrackr is suspended for the period from 9:30 a.m. EDT, June 18, 2013 through 11:59 p.m. EDT, on July 1, 2013.

By the Commission.
Elizabeth M. Murphy,
Secretary.

[FR Doc. 2013-14830 Filed 6-18-13; 4:15 pm]

BILLING CODE 8011-01-P